RAILROAD RETIREMENT BOARD

Sunshine Act Meetings

TIME AND DATE: 10:00 a.m., December 18, 2019.

PLACE: 8th Floor Board Conference Room, 844 North Rush Street, Chicago, Illinois, 60611.

STATUS: The initial part of this meeting will be open to the public. The rest of the meeting will be closed to the public.

MATTERS TO BE CONSIDERED:

Portions Open to the Public

1. Update from the SCOTUS Working Group

2. Discussion of Disability Determinations and Procedures

3. Oversight of the National Railroad Retirement Investment Trust

Portions Closed to the Public

4. Senior Executive Service Performance Evaluations

CONTACT PERSON FOR MORE INFORMATION: Stephanie Hillyard, Secretary to the Board, Phone No. 312-751-4920.

Authority: 5 U.S.C. 552b.

Dated: December 5, 2019.
Stephanie Hillyard,
Secretary to the Board.

[FR Doc. 2019-26613 Filed 12-5-19; 4:15 pm]

BILLING CODE 7905-01-P